FEDERAL MARITIME COMMISSION

[Docket No. FMC-2023-0016]

Request for Information

AGENCY: Federal Maritime Commission.

ACTION: Request for information.

SUMMARY: The Federal Maritime Commission (the Commission) seeks public comment on questions related to maritime data accuracy to continue the process of gathering information to inform possible future Commission activities with a focus on information related to containers moving through marine terminals. In particular, the Commission seeks responses on what data elements are communicated between transportation service providers and importers/exporters. The Commission also seeks information on how changes to information are conveyed and where communication is most likely to break down or information is most likely to be conveyed inaccurately.

DATES: Submit comments on or before 11:59 p.m. eastern standard time (EST) on June 17, 2024.

ADDRESSES: The Commission will collect comments through the Federal eRulemaking Portal at www.regulations.gov, under Docket No. FMC-2023-0016. Please refer to the “Public Participation” heading under the SUPPLEMENTARY INFORMATION section of this notice for detailed instructions on how to submit comments, including instructions on how to request confidential treatment.

FOR FURTHER INFORMATION CONTACT: David Eng, Secretary; Phone: (202) 523-5725; Email: secretary@fmc.gov.

SUPPLEMENTARY INFORMATION:

I. Background

Containerized cargo in international trade moves between the control of numerous entities. While some key data elements are readily shared between supply chain participants, the lack of timely and accurate access to some data elements can lead to inefficiencies, as was seen during the COVID-19 pandemic. Additionally, the lack of data standardization reduces the ability to move cargo in an effective way.

Improved communication and data availability could ease the flow of data and potentially provide positive results including fewer and shorter duration instances of congestion; quicker movement of import and export shipments; assessment of fewer storage fees; and a reduction in non-government cargo holds thereby improving supply chain effectiveness and efficiency.

II. Request for Information/Notice of Inquiry

The Maritime Transportation Data Initiative (MTDI), led by Commissioner Carl Bentzel, examined the issue of data usage and sharing within the supply chain served by international ocean carriers. Commissioner Bentzel released a report in May 2023 summarizing the information he gathered and his initial findings.¹

¹ Available at www.fmc.gov/wp-content/uploads/2023/04/MTDIReportandViews.pdf.

The Commission now seeks additional information to expand the information gathered from the MTDI and the Commission's August 23, 2023, Request for Information (88 FR 55697) related to data availability, accuracy, and exchange. This Request places particular emphasis on data accuracy.

A common theme revealed by the MTDI was that information on container pick up/return was difficult to gather accurately or predict. MTDI participants cited challenges such as determining who should provide the information, information changing frequently, and changes not being conveyed to shipping entities. These points have been reiterated to the Commission via numerous avenues, including by the National Shipper Advisory Committee.² The Commission created the prior Request for Information to understand some of the data challenges that entities throughout the supply chain face.³ The purpose of this Request for Information is to continue the process of gathering information to inform possible future Commission activities with a focus on information related to containers moving through marine terminals. The purpose of these questions is to seek information about data accuracy, not information about specific customers/partners and commenters should not name specific customers/partners when responding. The Commission has segmented the questions into categories specific to certain stakeholders, but it is also interested in hearing from the public, who may respond to all of the questions.

² See www.fmc.gov/wp-content/uploads/2023/05/Consistencyandalignmentofdata.pdf, www.fmc.gov/wp-content/uploads/2022/12/Draft-NSAC-ContainerLevelDataAlignment.pdf, www.fmc.gov/wp-content/uploads/2022/12/Draft-NSACIntermodalDataAlignment.pdf, www.fmc.gov/wp-content/uploads/2022/12/DRAFT-NSAC-ShipmentLevelDataAlignment.pdf for National Shipper Advisory Committee recommendations.

³ Previous Request for Information is posted in the docket at www.regulations.gov/document/FMC-2023-0016-0001.

Vessel Operators and Marine Terminal Operators

1. How do you communicate the vessel schedule and any changes regarding the vessel schedule to the beneficial cargo owners (BCO) and/or their agents? Please include the communication method and the timeline.

2. What share of vessels change their schedule within the last week prior to arrival at a scheduled port? What are the most common reasons for a vessel schedule to change?

3. What are the primary reasons for changes to the vessel schedule? What indicators can BCOs use to predict changes to vessel schedule?

4. How do you communicate the Early Return Date (ERD), and any changes to it, to BCOs and/or their agents? Please include the communication method and the timeline.

5. What are the primary reasons for changes to ERD? What indicators can BCOs use to predict changes to ERD?

6. What share of ERDs change within a week prior to the window? What are the most common reasons for an ERD to change in the last week?

7. How do you access information related to the availability of intermodal rail services? Please include the communication method and the timeline.

8. How do you access information related to the in-transit services of intermodal rail? Please include the communication method and the timeline.

9. Are there any metrics or pieces of information that are not clearly defined or missing entirely from the maritime supply chain? If so, please list and define.

Importers

10. What were the primary causes of penalty fees for missing a container pick up window?

11. What pick up information (such as vessel schedule or container availability) is most likely to change or be conveyed differently by different supply chain entities?

12. Who do you rely upon to obtain information pertaining to container pick up and any changes to it? Please include all entities that provide information, the communication method, and the timeline of when you receive the information.

13. How do you find out that a vessel schedule has changed?

14. How many days prior to the vessel arrival do you need the date to be finalized? Please indicate the conditions which affect the number of days you need.

15. How often do you attempt to pick up a container that you believe to be available, but it is not available? What are the most common reasons for this occurrence?

16. How frequently do you attempt to retrieve a container, but necessary equipment (such as chassis or rail service) is not available? What are the most common reasons for this occurrence?

17. Are there any metrics or pieces of information that are not clearly defined or missing entirely from the maritime supply chain? If so, please list and define.

Exporters

18. What were the primary causes of penalty fees for missing a container return window?

19. What container return information (such as vessel schedule or ERD) is most likely to change or be conveyed differently by different shipping entities?

20. Who do you rely upon to obtain information pertaining to container return and any changes to that information. Please include all entities that provide information, the communication method, and the timeline of when you receive the information.

21. How do you learn that a vessel schedule has changed?

22. How many days prior to the container return window do you need the ERD date to be finalized? Please indicate the conditions which affect the number of days you need.

23. How often do you attempt to export a container within what you believe to be the return window, and you end up being too early or too late? What are the most common reasons for this occurrence?

24. How frequently do you attempt to export a container, but necessary equipment (such as chassis or rail service) is not available? What are the most common reasons for this occurrence?

25. Are there any metrics or pieces of information that are not clearly defined or missing entirely from the maritime supply chain? If so, please list and define.

III. Public Participation

How do I prepare and submit comments?

You may submit comments by using the Federal eRulemaking Portal at www.regulations.gov, under Docket No. FMC-2023-0016. Please follow the instructions provided on the Federal eRulemaking Portal to submit comments.

How do I submit confidential business information?

The Commission will provide confidential treatment for identified confidential information to the extent allowed by law. If you would like to request confidential treatment, pursuant to 46 CFR 502.5, you must submit the following, by email, to secretary@fmc.gov:

• A transmittal letter requesting confidential treatment that identifies the specific information in the comments for which protection is sought and demonstrates that the information is a trade secret or other confidential research, development, or commercial information.

• A confidential copy of your comments, consisting of the complete filing with a cover page marked “Confidential-Restricted,” and the confidential material clearly marked on each page.

• A public version of your comments with the confidential information excluded. The public version must state “Public Version—confidential materials excluded” on the cover page and on each affected page and must clearly indicate any information withheld.

Will the Commission consider late comments?

The Commission will consider all comments received before the deadline on the comment closing date indicated above under DATES. To the extent possible, we may also consider comments received after that date.

How can I read comments submitted by other people?

You may read the comments received by the Commission at www.regulations.gov, under Docket No. FMC-2023-0016.

By the Commission.
David Eng,
Secretary.

[FR Doc. 2024-07977 Filed 4-15-24; 8:45 am]

BILLING CODE 6730-02-P